NUCLEAR REGULATORY COMMISSION

10 CFR Parts 50 and 52

[NRC-2015-0225]

RIN 3150-AJ68

Emergency Preparedness for Small Modular Reactors and Other New Technologies

AGENCY: Nuclear Regulatory Commission.

ACTION: Proposed rule and guidance; request for comment; extension of comment period.

SUMMARY: On May 12, 2020, the U.S. Nuclear Regulatory Commission (NRC) issued for public comment proposed amendments to its regulations regarding new alternative emergency preparedness requirements for small modular reactors and other new technologies. The public comment period was originally scheduled to close on July 27, 2020. The NRC is extending the public comment period to allow more time for members of the public and other stakeholders to develop and submit their comments.

DATES: The comment period for the document published on May 12, 2020 (85 FR 28436) is extended. Comments should be filed no later than September 25, 2020. Comments received after this date will be considered, if it is practical to do so, but the NRC is able to ensure consideration only for comments received on or before this date.

ADDRESSES: You may submit comments by any of the following methods:

• Federal Rulemaking Website: Go to https://www.regulations.gov and search for Docket ID NRC-2015-0225. Address questions about NRC dockets to Carol Gallagher; telephone: 301-415-3463; email: Carol.Gallagher@nrc.gov. For technical questions contact the individuals listed in the FOR FURTHER INFORMATION CONTACT section of this document.

• Email comments to: Rulemaking.Comments@nrc.gov. If you do not receive an automatic email reply confirming receipt, then contact us at 301-415-1677.

• Mail comments to: Secretary, U.S. Nuclear Regulatory Commission, Washington, DC 20555-0001, ATTN: Rulemakings and Adjudications Staff.

For additional direction on obtaining information and submitting comments, see “Obtaining Information and Submitting Comments” in the SUPPLEMENTARY INFORMATION section of this document.

FOR FURTHER INFORMATION CONTACT: Robert Beall, Office of Nuclear Material Safety and Safeguards; telephone: 301-415-3874; email: Robert.Beall@nrc.gov and Eric Schrader, Office of Nuclear Security and Incident Response; telephone: 301-287-3789; email: Eric.Schrader@nrc.gov. Both are staff of the U.S. Nuclear Regulatory Commission, Washington, DC 20555-0001.

SUPPLEMENTARY INFORMATION:

I. Obtaining Information and Submitting Comments

A. Obtaining Information

Please refer to Docket ID NRC-2015-0225 when contacting the NRC about the availability of information for this action. You may obtain publicly-available information related to this action by any of the following methods:

• Federal Rulemaking Website: Go to https://www.regulations.gov and search for Docket ID NRC-2015-0225.

• NRC's Agencywide Documents Access Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents is currently closed. You may submit your request to the PDR via email at pdr.resource@nrc.gov or call 1-800-397-4209 between 8:00 a.m. and 4:00 p.m. (EST), Monday through Friday, except Federal holidays.

B. Submitting Comments

Please include Docket ID NRC-2015-0225 in your comment submission. The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On June 24, 2020, the NRC received three emails (ADAMS Accession Numbers ML20177A319, ML20177A320, and ML20177A318) requesting the comment period for the proposed rule be extended by an additional 6 months. Two requestors state that due to the complexity of the rulemaking and the number of related documents that need to be reviewed, additional time is needed to submit comments. The third requestor states that due to the COVID-19 public health emergency, this is not the time to ask communities, emergency response leaders, and disaster readiness personnel to be commenting on a proposed rule.

The NRC seeks to ensure the public and other stakeholders have a reasonable opportunity to provide the NRC with comments on this proposed action. The NRC acknowledges that the rulemaking documents contain a significant amount of information. Accordingly, the NRC has decided to extend the comment period for the proposed rule for an additional 60 days. A 60-day extension provides a reasonable opportunity for all stakeholders to review these documents and to develop informed comments on these documents.

The NRC is extending the public comment period for the proposed rule until September 25, 2020, to allow more time for members of the public and other stakeholders to submit their comments.

Dated July 16, 2020.
For the Nuclear Regulatory Commission.
Annette L. Vietti-Cook,
Secretary to the Commission.

[FR Doc. 2020-15731 Filed 7-20-20; 8:45 am]

BILLING CODE 7590-01-P